NATIONAL AERONAUTICS AND SPACE ADMINISTRATION

[Notice (02-106)]

Notice of Prospective Patent License

AGENCY: National Aeronautics and Space Administration.

ACTION: Notice of prospective patent license.

SUMMARY: NASA hereby gives notice that Alphaport, Inc., of Cleveland, Ohio has applied for an exclusive license to practice the invention described and claimed in U.S. Patent No. 6,081,235, entitled “High Resolution Scanning Relfectarray Antenna,” which is assigned to the United States of America as represented by the Administrator of the National Aeronautics and Space Administration. Written objections to the prospective grant of a license should be sent to Glenn Research Center. NASA has not yet made a determination to grant the requested license and may deny the requested license even if no objections are submitted within the comment period.

DATES: Responses to this notice must be received by October 2, 2002.

FOR FURTHER INFORMATION CONTACT: Kent Stone, Patent Attorney, NASA Glenn Research Center, 21000 Brookpark Road, Mail Stop 500-118, Cleveland, OH 44135; (216) 433-8855 or e-mail at Kent.N.Stone@grc.nasa.gov.

Dated: September 11, 2002.
Paul G. Pastorek,
General Counsel.

[FR Doc. 02-23599 Filed 9-16-02; 8:45 am]

BILLING CODE 7510-01-P